DEPARTMENT OF HEALTH AND HUMAN SERVICES

Administration for Children and Families

Submission for OMB Review; Comment Request

Title: Personal Responsibility Education Program (PREP) Multi-Component Evaluation—Performance Measure and Baseline Data Collection.

OMB No.: 0970-0398.

Description: The Family and Youth Services Bureau (FYSB) and the Office of Planning, Research, and Evaluation (OPRE), Administration for Children and Families (ACF), U.S. Department of Health and Human Services (HHS), are proposing data collection activity as part of the PREP Multi-Component Evaluation. The goals of the PREP Multi-Component Evaluation are to document how PREP programs are operationalized in the field, collect performance measure data for PREP programs, and assess the effectiveness of selected PREP-funded programs. The PREP Multi-Component Evaluation will make a significant contribution to the teen pregnancy prevention literature and will produce useful findings for state and federal policymakers, researchers, and program administrators.

The evaluation will include three primary, interconnected components or “studies”:

1. The Impact and In-depth Implementation Study (IS);

2. The Design and Implementation Study (DIS); and

3. The Performance Analysis Study (PAS).

Description on all three studies was provided in a 60-Day Federal Register Notice posted in Vol. 76, No. 239, p. 77538 on December 13, 2011.

This 30 Day Notice covers (a) the baseline instrument for the Impact and In-depth Implementation Study; (b) all instruments for the Performance Analysis Study; and (c) a request for OMB to waive subsequent 60-day Federal Register notices pertaining to the PREP Multi-Component Evaluation.

Impact and In-depth Implementation Study Respondents: Respondents to the baseline survey will be participants in PREP-funded programs, including students and other youth.

Performance Analysis Study Respondents: Performance measurement data collection instruments will be administered to individuals representing states (i.e. PREP state-level coordinators), as well as sub-awardees (i.e program directors), program facilitators, other program staff, and program participants.

Annual Burden Estimates

The following table provides burden estimates for the previously-approved information collection requests, as well as the currently requested information collection requests. Burden for all components have been annualized over three years for this request.

Data collection instrument | Type of respondent | Annual number of respondents | Number of responses per respondent | Average burden hours per response | Total burden hours
Collection of Field Data (Approved November 6, 2011)
Discussion Guide for use with Macro-Level Coordinators | Macro-Level Coordinators | 10 | 1 | 1 | 10
Discussion Guide for use with Program Directors | Program Directors | 20 | 2 | 2 | 80
Discussion Guide for use with Program Staff | Program Staff | 40 | 1 | 2 | 80
Discussion Guide for use with School Administrators | School Administrators | 70 | 1 | 1 | 70
Design Survey Data Collection (Approved March 7, 2012)
Design Survey: Discussion Guide for Use with PREP State-Level Coordinators and State-Level Staff | State-Level Coordinators and State-Level Staff | 30 | 1 | 1 | 30
Performance Measures and Baseline Data (Currently Requested)
Instrument 1: Participant entry survey | Participant | 90,250 | 1 | 0.08333 | 7521
Instrument 2: Participant exit survey | Participant | 2,200 | 1 | 0.16667 | 12,034
Instrument 3: Baseline Survey | Participant | 1,900 | 1 | 0.75 | 1,425
Instrument 4: Performance Reporting System Data Entry Form | Grantee Administrator | 65 | 1 | 24 | 1,560
Instrument 5: Sub-Awardee data collection and reporting | Sub-Awardee Administrator | 475 | 1 | 24.16667 | 11,479
Instrument 6: Implementation site data collection | Site Facilitator | 950 | 1 | 16 | 15,200

Estimated Total Annual Burden Hours: 49,489.

Additional Information

Copies of the proposed collection can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration, for Children and Families.

Steven M. Hanmer,
OPRE Reports Clearance Officer, Administration for Children and Families.

[FR Doc. 2012-15010 Filed 6-20-12; 8:45 am]

BILLING CODE 4184-37-M